DEPARTMENT OF THE INTERIOR

National Park Service

[NPS-PWR-PWRO-14919; PPPWPWROP0/PX.P0118032i.00.1]

Notice of Termination of Environmental Impact Statement for General Management Plan, Devils Postpile National Monument, Mono and Madera Counties, California

AGENCY: National Park Service, Interior.

ACTION: Notice of Termination of Environmental Impact Statement.

SUMMARY: The National Park Service is terminating the preparation of an Environmental Impact Statement (EIS) for the General Management Plan, Devils Postpile National Monument, Mammoth Lakes, California. A Notice of Intent to prepare the EIS for the General Management Plan (GMP) was published in the Federal Register on June 15, 2009. The National Park Service has since determined that an Environmental Assessment (EA) rather than an EIS is the appropriate environmental documentation for the GMP. This determination includes due consideration of all public comment and other agency information received during the public scoping period.

Background: The new GMP for Devils Postpile National Monument will provide long-term guidance for resource management, visitor services and interpretive programming. The planning team originally scoped the GMP as an EIS and a Notice of Intent to prepare an EIS was published in the Federal Register on June 15, 2009. No concerns or issues expressed during public scoping process and subsequently during development of preliminary GMP alternatives convey either the potential for controversy or identify potential significant impacts.

In 2011, the planning team developed three action alternatives for the GMP. These three alternatives explored ways to enhance long-term preservation of park resources and provide new recreational and educational opportunities. The planning team produced a newsletter and comment form to seek public input on the preliminary alternatives in the summer of 2011. Feedback on the preliminary alternatives affirmed that the planning team provided an appropriate range of future management directions for the monument. Most of the public comments on the preliminary alternatives were supportive of various aspects of the proposed alternative concepts and desired conditions. To date, no major concerns or issues have been expressed during public involvement for the GMP that would convey the potential for public controversy.

Initial analysis of the alternatives has revealed no potential for either major or significant effects on the human environment, nor any potential for impairing park resources and values. The foreseeable potential impacts which may occur from implementing any of the alternatives are expected to be negligible to moderate in magnitude. For these reasons, the NPS determined that the appropriate level of conservation planning and environmental impact analysis for the GMP is an EA. It is also noted that many of the actions proposed in the GMP will have benefits to the monument's resources, operational needs, and visitor experiences.

SUPPLEMENTARY INFORMATION: The draft GMP and EA will be integrated. The combined document is expected to be distributed for a public review and comment period during the spring of 2014. The NPS will notify the public by direct mail, Web site postings at http://parkplanning.nps.gov/depo, local and regional media, and other means, to provide regularly updated information on where and how to obtain a copy of the EA, how to comment on the EA, and the confirmed dates for local public meetings during the public review period. For further information contact Deanna Dulen, Superintendent, Devils Postpile National Monument, P.O. Box 3999, Mammoth Lakes, California 93546. (telephone: (760) 924-5505; email: Deanna_Dulen@nps.gov).

A preferred vision for the new GMP will be presented to the public in the spring of 2014 and comments will be solicited. The official responsible for the final decision is the Regional Director, Pacific West Region, National Park Service. Subsequently the official responsible for implementing the new GMP is the Superintendent, Devils Postpile National Monument.

Dated: January 28, 2014.
Patricia L. Neubacher,
Acting Regional Director, Pacific West Region.

[FR Doc. 2014-07488 Filed 4-2-14; 8:45 am]

BILLING CODE 4312-FF-P